DEPARTMENT OF THE INTERIOR

Fish and Wildlife Service

Notice of Availability of a Final Recovery Plan for the Threatened Guajón (Eleutherodactylus cooki)

AGENCY: Fish and Wildlife Service, Interior.

ACTION: Notice of document availability.

SUMMARY: We, the Fish and Wildlife Service, announce the availability of the final recovery plan for the guajón (also referred to as the Puerto Rican demon). The guajón is one of sixteen species of frogs from the genus Eleutherodactylus (commonly known as “coquíes”) that inhabit the island of Puerto Rico, and is also the second largest species found on the island. The guajón is extremely limited in its geographic distribution. The species inhabits localities in the “Sierra de Panduras” mountain range, and the municipalities of Yabucoa, San Lorenzo, Humacao, Las Piedras, and west to Patillas-San Lorenzo. The guajón, named after the habitat it occupies, occurs at low and intermediate elevations, from 18 to 1,183 feet (5.5 to 360.6 meters) above sea level where it inhabits caves formed by large boulders of granite rock known as “guajonales” or streams with patches of rock without cave systems. The technical agency draft recovery plan includes specific recovery objectives and criteria to be met in order to delist the guajón under the Endangered Species Act of 1973, as amended (Act). We solicit review and comment on this technical agency draft recovery plan from local, State, and Federal agencies, and the public.

ADDRESSES: You may obtain a copy of the recovery plan by contacting the Boquerón Field Office, U.S. Fish and Wildlife Service, P.O. Box 491, Boquerón, Puerto Rico 00622 (telephone 787/851-7297), or by visiting our recovery plan Web site at http://endangered.fws.gov/recovery/index.html#plans.

FOR FURTHER INFORMATION CONTACT: Jorge Saliva at the above address (Telephone 787/851-7297, ext. 24).

SUPPLEMENTARY INFORMATION:

Background

We listed the guajón as threatened on June 11, 1997, under the Act (62 FR 31757). The guajón may be the only species of Eleutherodactylus in Puerto Rico that exhibits differences in color between sexes. Females have solid brown coloration, with a uniformly white undersurface. They have white-rimmed eyes, and large, truncate disks on their feet. Males have yellow coloration extending from the vocal sac to the abdomen and flanks. Females are larger than males, with a mean size (snout-vent length) of 2.01 inches (in) (5.11 centimeters (cm)) for females and 1.71 in (4.34 cm) for males. The voice of the guajón is low and melodious.

For this species, deforestation and earth movement for agricultural, urban and rural development, and highway construction are likely the principal causes for decline. In addition, the guajón is threatened by the use of pesticides, herbicides, and fertilizers in adjacent areas, illegal garbage dumping, and the effects of catastrophic natural events such as droughts and hurricanes. Additional research is planned to look at these and other potential causes for decline.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this recovery plan is to provide a framework for the recovery of the guajón so that protection under the Act is no longer necessary. As recovery criteria are met, the status of the species will be reviewed and they will be considered for removal from the Federal List of Endangered and Threatened Wildlife and Plants (50 CFR part 17).

Authority

The authority for this action is section 4(f) of the Endangered Species Act, 16 U.S.C. 1533 (f).

Dated: August 31, 2004.
Cynthia K. Dohner,
Deputy Regional Director, Southeast Region.

[FR Doc. 04-21475 Filed 9-23-04; 8:45 am]

BILLING CODE 4310-55-P